DEPARTMENT OF LABOR

Employment and Training Administration

[TA-W-61,950]

Delphi Corporation, Automotive Holdings Group, Chassis Division, Including On-Site Leased Workers From Bartech, Kettering, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 17, 2007, applicable to workers of Delphi Corporation, Automotive Holdings Group, Chassis Division, Kettering, Ohio. The notice was published in the Federal Register on August 30, 2007 (72 FR 50126).

At the request of the State agency, the Department reviewed the certification for workers of the subject firm. The workers are engaged in the production of dampers and damper components.

New information shows that leased workers of Bartech were employed on-site at the Kettering, Ohio location of Delphi Corporation, Automotive Holdings Group, Chassis Division. The Department has determined that these workers were sufficiently under the control of the subject firm to be considered leased workers.

Based on these findings, the Department is amending this certification to include leased workers of Bartech working on-site at the Kettering, Ohio location of the subject firm.

The intent of the Department's certification is to include all workers employed at Delphi Corporation, Automotive Holdings Group, Chassis Division, Kettering, Ohio who were adversely-impacted by a shift in production of dampers and damper components to Mexico.

The amended notice applicable to TA-W-61,950 is hereby issued as follows:

All workers of Delphi Corporation, Automotive Holdings Group, Chassis Division, including on-site leased workers from Bartech, Kettering, Ohio, who became totally or partially separated from employment on or after September 16, 2007, through August 17, 2009, are eligible to apply for adjustment assistance under Section 223 of the Trade Act of 1974, and are also eligible to apply for alternative trade adjustment assistance under Section 246 of the Trade Act of 1974.

Signed at Washington, DC, this 26th day of February 2008.
Elliott S. Kushner,
Certifying Officer, Division of Trade Adjustment Assistance.

[FR Doc. E8-4438 Filed 3-6-08; 8:45 am]

BILLING CODE 4510-FN-P